DEPARTMENT OF THE INTERIOR

Bureau of Reclamation

Allocation of Water Supply and Long-Term Contract Execution, Central Arizona Project

AGENCY: Bureau of Reclamation, Department of the Interior.

ACTION: Notice of availability of a draft environmental impact statement for public review and comment on the proposed allocation of water supply and long-term contract execution, Central Arizona Project.

SUMMARY: Pursuant to section 102(2)(C) of the National Environmental Policy Act (NEPA) of 1969, as amended, and the Council on Environmental Quality's Regulations for Implementing the Procedural Provisions of NEPA, the Bureau of Reclamation (Reclamation), has issued a Draft Environmental Impact Statement (DEIS) for the Central Arizona Project. This notice updates the Federal Register notice published on June 23, 2000 (65 FR 39177) and provides notice that the public comment period on this DEIS remains unchanged and notice that Reclamation will not be holding public hearings on this DEIS. Information on the public comment period may be found below in the DATES section. Information on public hearings may be found below in the SUPPLEMENTARY INFORMATION section.

ADDRESSES: Send written comments on the DEIS to Mr. Bruce Ellis, Environmental Program Manager, Phoenix Area Office, Bureau of Reclamation, P.O. Box 81169, Phoenix, Arizona 85069-1169, by August 25, 2000.

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials or organizations or businesses, available for public disclosure in their entirety.

The draft EIS document remains available for public inspection on the Internet at http://www.apo.lc.usbr.gov. In addition, copies of the draft EIS remain available at the following address: Phoenix Area Office, Bureau of Reclamation, P.O. Box 81169, Phoenix, Arizona 85069-1169, faxogram 602-216-4006, or telephone 602-216-3812.

See the SUPPLEMENTARY INFORMATION section of the Federal Register notice dated June 23, 2000 (65 FR 39177) for a list of libraries where the draft EIS remains available for public inspection and review.

DATES: Written comments on this DEIS must be received no later than August 25, 2000.

FOR FURTHER INFORMATION CONTACT: For additional information, contact Mr. Bruce Ellis, Environmental Program Manager, at Phoenix Area Office, Bureau of Reclamation, P.O. Box 81169, Phoenix, Arizona 85069-1169, or telephone (602) 216-3812.

SUPPLEMENTARY INFORMATION: As noted above in the DATES section, the public comment period on this DEIS remains unchanged and written comments must be received no later than August 25, 2000. In addition, in the Federal Register notice dated June 23, 2000 (65 FR 39177) Reclamation indicated that public hearings would be held during the public comment period to receive written or verbal comments on the DEIS. Based on legislation recently passed by Congress, Reclamation will not be holding public hearings on this matter. Interested members of the public may still provide comments on the DEIS and Reclamation therefore encourages all interested entities to provide written comments to Reclamation during the public comment period.

Dated: July 7, 2000.
V. LeGrand Neilson,
Deputy Regional Director.

[FR Doc. 00-17637 Filed 7-11-00; 8:45 am]

BILLING CODE 4310-MN-P